DEPARTMENT OF DEFENSE

Department of the Navy

[Docket ID USN-2022-HQ-0008]

Submission for OMB Review; Comment Request

AGENCY: Department of the Navy, Department of Defense (DoD).

ACTION: 30-Day information collection notice.

SUMMARY: The Department of Defense has submitted to OMB for clearance the following proposal for collection of information under the provisions of the Paperwork Reduction Act.

DATES: Consideration will be given to all comments received by August 1, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION: Title; Associated Form; and OMB Number: Academic Certification for Marine Corps Officer Candidate Program; NAVMC Form 10469; OMB Control Number 0703-0011.

Type of Request: Revision.

Number of Respondents: 3,500.

Responses per Respondent: 1.

Annual Responses: 3,500.

Average Burden Per Response: 15 minutes.

Annual Burden Hours: 875.

Needs And Uses: The information collected through NAVMC Form 10469, “Academic Certification for Marine Corps Officer Candidate Program,” is needed to verify a potential officer candidate's academic qualifications and mental qualifying scores. When an applicant is interested in joining the Marine Corps as an Officer, they must contact a Marine Corps Officer Selection Officer (OSO). An OSO will then conduct an initial interview with the applicant in which they will be asked to disclose where he or she attended college. The OSO will go to the colleges or universities that the applicant listed during the initial interview. The OSO takes the NAVMC Form 10469 to the college or university of the applicant where the respondent, a school official, will fill out the form with information on the student's degree plan, major, credit hours, and grades. The school official will then sign the form, verifying the information to be true, and return it to the OSO in person. The data from the NAVMC 10469 is scanned and uploaded into the Marine Corps Recruiting Command's Automated Commissioning Package (ACP) database. The form is included in a potential officer's application. Once this form is scanned into the ACP, the hard copy of the form is destroyed. The ACP is then uploaded into the Marine Corps Recruiting Command Administrative Portal, where the forms are stored permanently.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: June 24, 2022.
Aaron T. Siegel,
Alternate OSD Federal Register Liaison Officer, Department of Defense.

[FR Doc. 2022-13977 Filed 6-29-22; 8:45 am]

BILLING CODE 5001-06-P